DEPARTMENT OF HOMELAND SECURITY

U.S. Immigration and Customs Enforcement

[Docket No. ICEB-2022-0014]

RIN 1653-ZA34

Employment Authorization for Haitian F-1 Nonimmigrant Students Experiencing Severe Economic Hardship as a Direct Result of the Current Crisis in Haiti; Correction

AGENCY: U.S. Immigration and Customs Enforcement; Department of Homeland Security.

ACTION: Notice; correction.

SUMMARY: U.S. Immigration and Customs Enforcement (ICE), a component of the Department of Homeland Security (DHS), is making a correction to the notice titled “Employment Authorization for Haitian F-1 Nonimmigrant Students Experiencing Severe Economic Hardship as a Direct Result of the Current Crisis in Haiti” that published in the Federal Register on Thursday, January 26, 2023.

DATES: August 8, 2023.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION: On Thursday, January 26, 2023, DHS published a notice in the Federal Register at 88 FR 5016. Due to typographical errors, ICE is replacing paragraphs within the following sections, so that the eligibility requirements are consistent with the correct F-1 Notice eligibility language: “Who is covered by this notice?” and “Will the suspension of the applicability of the standard student employment requirements apply to an individual who receives an initial F-1 visa and makes an initial entry into the United States after the effective date of this notice in the Federal Register?”. ICE is also correcting an incorrect citation. The corrections are as follows:

(1) On pages 5016 and 5019, under the sections “Who is covered by this notice?” and “Will the suspension of the applicability of the standard student employment requirements apply to an individual who receives an initial F-1 visa and makes an initial entry into the United States after the effective date of this notice in the Federal Register?”, ICE is replacing the paragraphs to correct the eligibility requirements consistent with the correct F-1 Notice eligibility language.

(2) On page 5020 and 5021, ICE is correcting both instances of the CFR citation to direct the public to the correct version of the 8 CFR 103.7(c) (Oct. 1, 2020).

Correction

In FR 2023-01593, Federal Register of January 26, 2023, ICE is correcting the following errors:

1. On page 5016, third column, the text following the heading “Who is covered by this notice?” is corrected to read as follows:

This notice applies exclusively to F-1 nonimmigrant students who meet all of the following conditions:

(1) Are a citizen of Haiti, regardless of country of birth (or an individual having no nationality who last habitually resided in Haiti);

(2) Were lawfully present in the United States on the date of publication of this notice in F-1 nonimmigrant status, under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current crisis in Haiti.

This notice applies to F-1 nonimmigrant students in an approved private school in kindergarten through grade 12, public school grades 9 through 12, and undergraduate and graduate education. An F-1 nonimmigrant student covered by this notice who transfers to another SEVP-certified academic institution remains eligible for the relief provided by means of this notice.

2. On page 5019, second column, the text following the heading “Will the suspension of the applicability of the standard student employment requirements apply to an individual who receives an initial F-1 visa and makes an initial entry into the United States after the effective date of this notice in the Federal Register?” is corrected to read as follows:

No. The suspension of the applicability of the standard regulatory requirements only applies to certain F-1 nonimmigrant students who meet the following conditions:

(1) Are a citizen of Haiti, regardless of country of birth (or an individual having no nationality who last habitually resided in Haiti);

(2) Were lawfully present in the United States on the date of publication of this notice in F-1 nonimmigrant status, under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current crisis in Haiti.

This notice applies to F-1 nonimmigrant students in an approved private school in kindergarten through grade 12, public school grades 9 through 12, and undergraduate and graduate education. An F-1 nonimmigrant student covered by this notice who transfers to another SEVP-certified academic institution remains eligible for the relief provided by means of this notice.

3. On page 5020, third column, under the heading “How may an eligible F-1 nonimmigrant student obtain employment authorization for off-campus employment with a reduced course load under this notice?”, second paragraph, the reference “8 CFR 103.7(c)” is corrected to read “8 CFR 103.7(c) (Oct. 1, 2020)”;

4. On page 5021, second column, item (a)(2) under “Processing”, the reference “8 CFR 103.7(c)” is corrected to read “8 CFR 103.7(c) (Oct. 1, 2020)”.

Alejandro Mayorkas,
Secretary, Department of Homeland Security.

[FR Doc. 2023-17042 Filed 8-7-23; 8:45 am]

BILLING CODE 9111-28-P